DEPARTMENT OF DEFENSE

Office of the Secretary

[Transmittal No. 25-0B]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0B.

Dated: January 8, 2026.
Stephanie J. Bost,
Alternate OSD Federal Register Liaison Officer, Department of Defense.

BILLING CODE 6001-FR-P

BILLING CODE 6001-FR-C

Transmittal No. 25-0B

REPORT OF ENHANCEMENT OR UPGRADE OF SENSITIVITY OF TECHNOLOGY OR CAPABILITY (SEC. 36(B)(5)(C), AECA)

(i) Purchaser: Government of Japan

(ii) Sec. 36(b)(1), AECA Transmittal No.: 19-08

Date: January 29, 2019

Military Department: Navy

(iii) Description: On January 29, 2019, Congress was notified by congressional certification transmittal number 19-08 of the possible sale, under Section 36(b)(1) of the Arms Export Control Act, of two (2) AEGIS Weapon Systems (AWS); two (2) Multi-Mission Signal Processors (MMSP); and two (2) Command and Control Processor (C2P) Refreshes. Also included were radio navigation equipment; naval ordnance; two (2) Identification Friend or Foe (IFF) Systems; Global Command and Control System-Maritime (GCCS-M) hardware; and two (2) Inertial Navigation Systems (INS); United States (U.S.) Government and contractor representatives' technical, engineering and logistics support services; installation support material; training; construction services for six (6) vertical launch system launcher module enclosures; communications equipment and associated spares; classified and unclassified publications and software; and other related elements of logistical and program support. The total estimated program cost was $2.150 billion. Major Defense Equipment (MDE) constituted $.375 billion of this total.

On September 12, 2019, Congress was notified by congressional certification transmittal number 0Q-19 of an increase in capability from the Navigation Sensor System Interface (non-MDE) originally notified to the Global Positioning System (GPS)-based Positioning, Navigation, and Timing Service (GPNTS) capability, which is MDE. The total value of the GPNTS was $3,417,596, but the total estimated MDE cost and the total case program value remained the same at $.375 billion and $2.150 billion, respectively.

On December 14, 2023, Congress was notified by congressional certification transmittal number 23-0V of the following MDE items: two (2) AEGIS Weapon Systems; two (2) AN/SPQ-9B Radar Systems; two (2) AN/SLQ-32(V)6 Electronic Warfare Systems; two (2) AN/USQ-140 Multifunctional Information Distribution System (MIDS) on Ship (MOS), Modernization (MOS MOD); two (2) AN/USQ-190 Multifunctional Information Distribution System Joint Tactical Radio Systems (V5); three (3) Cooperative Engagement Capability (CEC), AN/USG-10s; and one (1) AN/UYQ-120(V) Command and Control Processor (C2P) Technology Refresh System. Also included were AN/SQQ-89 Underwater Sound Equipment Systems; Multi-Function Towed Array Systems; RT-1829 Ultra-High Frequency, Satellite Communications (UHF SATCOM) Terminals; OE-570D Antennas; MK20 Mod 1 Electro-optic/Infrared Sensor Systems; MK160 Mod 23 Gun Weapon Systems; MK-36 Mod 6 Super Rapid Offboard Countermeasures and Decoy Launching System (SRBOC); U.S. Government and contractor representatives technical, engineering, and logistics support services; installation support material; training, tool development, communications equipment, and associated spares; classified and unclassified publications and software; and other related elements of logistics and program support. The estimated total value of the new items was $0.570 billion. The net MDE value increased by $0.239 billion and the non-MDE value by $0.331 billion. The revised estimated total case value increased to $2.72 billion. MDE constituted $0.614 billion of this total.

This transmittal notifies the addition of the following non-MDE items: medium range ballistic missile live fire test targets; short range ballistic missile live fire test targets; additional AEGIS Weapon Systems components, spares, tech documents, and software required for use at Japan's computer test site; additional U.S. Government and contractor representative technical, engineering, test and evaluation, and logistics support services; installation support material; training, tool development, communications equipment, and associated spares; classified and unclassified publications and software; and other related elements of logistics and program support. The estimated total value of the new items is $0.67 billion. The non-MDE value will increase by $0.67 billion to $2.776 billion. The estimated total case value will increase by $0.67 billion to a revised $3.39 billion. MDE will remain at $0.614 billion of this total.

(iv) Significance: The inclusion of this additional equipment and services represents an increase in total dollar value over what was previously notified. The proposed sale will support and assist Japan in developing and maintaining a strong and effective self-defense capability and enhance its capabilities against increasingly sophisticated ballistic missile threats.

(v) Justification: This proposed sale will support the foreign policy goals and national security objectives of the U.S. by improving the security of a major ally that is a force for political stability and economic progress in the Indo-Pacific region.

(vi) Sensitivity of Technology:

The Sensitivity of Technology Statement contained in the original notification applies to other items reported here.

The highest level of classification of defense articles, components, and services included in this potential sale is SECRET.

(vii) Date Report Delivered to Congress: January 7, 2025

[FR Doc. 2026-00439 Filed 1-12-26; 8:45 am]

BILLING CODE 6001-FR-P